DEPARTMENT OF COMMERCE

National Oceanic and Atmospheric Administration

Proposed Information Collection; Comment Request; West Coast Community Economic Data Collection

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 21, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Philip Watson, (206) 947-3107 or philip.watson@noaa.gov.

SUPPLEMENTARY INFORMATION:

I. Abstract

The National Marine Fisheries Service (NMFS) proposes to collect information pertaining to the economic utilization of marine resources by communities on the West Coast, in order to improve fishery management; satisfy NMFS' legal mandates under Executive Order 12866, Title 8 of the Magnuson Steven Fishery Conservation and Management Act (U.S.C. 1801 et seq.), as amended in 2007; and quantify achievement of the performance measures in the NMFS Strategic Operating Plans. The data collected will enable researchers to determine the degree of dependence of these communities on marine resource based activities and will inform policy makers as to the likely economic impacts of fishery and marine regulations on these communities.

Economic data for selected U.S. coastal communities will be collected for each of the following groups of operations: (1) Locally operated businesses; (2) resident households; and (3) visitors. In general, local businesses will be asked questions concerning their sources of revenue, location and levels of expenditures, ownership, dependence on the fisheries and other marine resources, and fishery employment. Households will be asked questions concerning their sources of income, the location of expenditures made, and their dependence on fishing and other marine resources. Visitors will be asked questions concerning region of residence, expenditures made while visiting, and reasons for visiting. The data collection efforts will be coordinated to reduce the additional burden for those who own multiple businesses. Participation in these data collections will be voluntary.

The data will be used to construct a regional economic simulation model to analyze fishery management alternatives and to investigate the degree of economic dependence on marine resources in the respective communities.

II. Method of Collection

Data will be collected via in-person interviews, telephone interviews and/or mail questionnaire.

III. Data

OMB Number: None.

Form Number: None.

Type of Review: Regular submission.

Affected Public: Individuals or households; business or other for-profit organizations.

Estimated Number of Respondents: 2,400.

Estimated Time per Response: 1 hour per survey of businesses; 30 minutes per survey of households; and 15 minutes per survey of individual visitors.

Estimated Total Annual Burden Hours: 998.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 15, 2007.
Gwellnar Banks,
Management Analyst, Office of the Chief Information Officer.

[FR Doc. E7-5094 Filed 3-20-07; 8:45 am]

BILLING CODE 3510-22-P